DEPARTMENT OF THE INTERIOR

Bureau of Indian Affairs

[189A2100DD/AAKC001030/A0A501010.999900 253G]

Land Acquisitions: The Shawnee Tribe

AGENCY: Bureau of Indian Affairs, Interior.

ACTION: Notice.

SUMMARY: The Secretary of the Interior made a final agency determination to acquire 102.98 acres, more or less, of land near the City of Guymon, Texas County, Oklahoma, in trust for the Shawnee Tribe for gaming and other purposes on January 19, 2018.

FOR FURTHER INFORMATION CONTACT: Ms. Paula L. Hart, Director, Office of Indian Gaming, Office of the Assistant Secretary—Indian Affairs, MS-3657, 1849 C Street NW, Washington, DC 20240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On January 19, 2018, the Secretary of the Interior issued a decision to accept approximately 102.98 acres, more or less, of land near the City of Guymon, Texas County, Oklahoma, (Site) in trust for the Shawnee Tribe (Tribe), under the authority of the Indian Reorganization Act, 25 U.S.C. 5108. The Department previously determined on January 19, 2017, that the Tribe is eligible to conduct gaming on the Site pursuant to Section 20 of the Indian Gaming Regulatory Act, 25 U.S.C. 2719(b)(1)(A). On March 3, 2017, the Governor of the State of Oklahoma concurred with the Department's finding.

The Principal Deputy Assistant Secretary—Indian Affairs, on behalf of the Secretary of the Interior, will immediately acquire title to the Guymon Site in the name of the United States of America in trust for the Tribe upon fulfillment of Departmental requirements. The 102.98 acres, more or less, are located in Texas County, Oklahoma, and are described as follows:

All that part of the Northwest Quarter (NW/4) of the Southwest Quarter (SW/4) and the South Half (S/2) of the Southwest Quarter (SW/4) lying South of the South Right-of-Way line of U.S. Highway 54 in Section Eleven (11), Township Two (2) North, Range Fourteen (14) East, Cimarron Base and Meridian, Texas County, Oklahoma, being more particularly described in TRUE NORTH bearings as follows:

Beginning at the Southwest Corner of the SW/4 of said Section 11; thence N 00°18′19″ E, a distance of 1,291.19 feet to the intersection between said West line of the SW/4 and the South line of a tract of land as described and filed in Book 983 at Page 434 in the Office of the Texas County Clerk; thence along the South line of said tract as filed in Book 983 at Page 434 for the following seven (7) courses:

1. Thence S 89°36′25″ E, a distance of 41.40 feet;

2. Thence N 00°23′35″ E, a distance of 8.74 feet;

3. Thence with a curve turning to the Right with an arc length of 81.63 feet, with a radius of 162.00 feet, with a chord bearing of N 14°49′42″ E, with a chord length of 80.77 feet;

4. Thence N 29°15′47″ E, a distance of 211.01 feet;

5. Thence with a curve turning to the Left with an arc length of 106.48 feet, with a radius of 238.00 feet, with a chord bearing of N 16°26′47″ E, with a chord length of 105.59 feet;

6. Thence N 24°40′53″ E, a distance of 179.39 feet;

7. Thence N 54°15′23″ E, a distance of 1,305.47 feet to a point common with the West line of the NE/4 SW/4; Thence S 00°21′54″ W, along the West line of the NE/4 SW/4, a distance of 1,270.87 feet to the Southwest Corner thereof; thence S 89°45′32″ E, along the South line of the NE/4 SW/4, a distance of 1,321.40 feet to the Southeast Corner thereof; thence S 00°25′29″ W, along the East line of the S/2 SW/4, a distance of 1,323.96 feet to the Southeast Corner thereof; thence N 89°44′49″ W, along the South line of the SW/4, a distance of 2,640.03 feet to the True Point of Beginning, having an area of 102.98 Acres, more or less. Basis of Bearings are True North. Said being described by Obert D. Bennett, PLS. No. 1471 on October 6, 2014. Surface Only.

Dated: March 12, 2018.
John Tahsuda,
Principal Deputy Assistant Secretary—Indian Affairs Exercising the Authority of the Assistant Secretary—Indian Affairs.

[FR Doc. 2018-06230 Filed 3-27-18; 8:45 am]

BILLING CODE 4337-15-P